DEPARTMENT OF TRANSPORTATION

Federal Aviation Administration

14 CFR Part 39

[Docket No. FAA-2021-0016; Project Identifier 2019-SW-114-AD]

RIN 2120-AA64

Airworthiness Directives; Airbus Helicopters

AGENCY: Federal Aviation Administration (FAA), DOT.

ACTION: Notice of proposed rulemaking (NPRM).

SUMMARY: The FAA proposes to adopt a new airworthiness directive (AD) for all Airbus Helicopters Model EC225LP helicopters. This proposed AD was prompted by reports of an oil leak from the main gearbox (MGB) during engine start up. This proposed AD would require modification and subsequent repetitive functional testing of the MGB emergency lubrication (EMLUB) system as specified in a European Union Aviation Safety Agency (EASA) AD, which is proposed for incorporation by reference (IBR). The FAA is proposing this AD to address the unsafe condition on these products.

DATES: The FAA must receive comments on this proposed AD by April 29, 2021.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For material that is proposed for IBR in this AD, contact the EASA, Konrad-Adenauer-Ufer 3, 50668 Cologne, Germany; telephone +49 221 8999 000; email ADs@easa.europa.eu; internet www.easa.europa.eu. You may find this material on the EASA website at https://ad.easa.europa.eu. You may view this material at the FAA, Office of the Regional Counsel, Southwest Region, 10101 Hillwood Pkwy., Room 6N-321, Fort Worth, TX 76177. For information on the availability of this material at the FAA, call 817-222-5110. It is also available in the AD docket on the internet at https://www.regulations.gov by searching for and locating Docket No. FAA-2021-0016.

Examining the AD Docket

You may examine the AD docket on the internet at https://www.regulations.gov by searching for and locating Docket No. FAA-2021-0016; or in person at Docket Operations between 9 a.m. and 5 p.m., Monday through Friday, except Federal holidays. The AD docket contains this NPRM, any comments received, and other information. The street address for Docket Operations is listed above. Comments will be available in the AD docket shortly after receipt.

FOR FURTHER INFORMATION CONTACT: Hal Jensen, Aerospace Engineer, Operational Safety Branch, FAA, 470 L'Enfant Plaza SW, Washington, DC 20024; telephone 202-267-9167; email hal.jensen@faa.gov.

SUPPLEMENTARY INFORMATION:

Comments Invited

The FAA invites you to send any written relevant data, views, or arguments about this proposal. Send your comments to an address listed under ADDRESSES. Include “Docket No. FAA-2021-0016; Project Identifier 2019-SW-114-AD” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Hal Jensen, Aerospace Engineer, Operational Safety Branch, FAA, 470 L'Enfant Plaza SW, Washington, DC 20024; telephone 202-267-9167; email hal.jensen@faa.gov. Any commentary that the FAA receives that is not specifically designated as CBI will be placed in the public docket for this rulemaking.

Discussion

The EASA, which is the Technical Agent for the Member States of the European Union, has issued EASA AD No. 2016-0232, dated November 22, 2016 (EASA AD 2016-0232), to correct an unsafe condition for Airbus Helicopters Model EC 225 LP helicopters. EASA later issued EASA AD No. 2016-0232R1, dated December 12, 2019 (EASA AD 2016-0232R1), to revise EASA AD 2016-0232.

This proposed AD was prompted by reports of oil leaks during engine starting, originating from the MGB. The FAA is proposing this AD to address inadvertent opening of the P 2.4 valve of the MGB EMLUB system, which results from pressurization by compressed air produced by the engine during starting in response to a signal from the EMLUB electronic control card. This condition, if not addressed, could result in loss of the MGB main lubrication system and reduced ability of the crew to manage adverse operating conditions. See EASA AD 2016-0232R1 for additional background information.

Related Service Information Under 1 CFR Part 51

EASA AD 2016-0232R1 requires modifying the electrical control circuit of the MGB EMLUB system. After modifying, EASA AD 2016-0232R1 requires a repetitive functional test of the MGB EMLUB system, and if there is a discrepancy, accomplishing corrective action(s). Accomplishing any corrective action(s) does not constitute terminating action for the repetitive functional tests.

This material is reasonably available because the interested parties have access to it through their normal course of business or by the means identified in the ADDRESSES section.

FAA's Determination and Requirements of This Proposed AD

These products have been approved by the aviation authority of another country, and are approved for operation in the United States. Pursuant to the bilateral agreement with the State of Design Authority, the FAA has been notified of the unsafe condition described in the EASA AD referenced above. The FAA is proposing this AD after evaluating all the relevant information and determining the unsafe condition described previously is likely to exist or develop in other products of the same type design.

Proposed AD Requirements

This proposed AD would require accomplishing the actions specified in EASA AD 2016-0232R1, described previously, as incorporated by reference, except for any differences identified as exceptions in the regulatory text of this AD and except as discussed under “Differences Between this Proposed AD and the EASA AD.”

Explanation of Required Compliance Information

In the FAA's ongoing efforts to improve the efficiency of the AD process, the FAA initially worked with Airbus and EASA to develop a process to use certain EASA ADs as the primary source of information for compliance with requirements for corresponding FAA ADs. The FAA has since coordinated with other manufacturers and civil aviation authorities (CAAs) to use this process. As a result, EASA AD 2016-0232R1 will be incorporated by reference in the FAA final rule. This proposed AD would, therefore, require compliance with EASA AD 2016-0232R1 in its entirety, through that incorporation, except for any differences identified as exceptions in the regulatory text of this proposed AD. Using common terms that are the same as the heading of a particular section in the EASA AD does not mean that operators need comply only with that section. For example, where the AD requirement refers to “all required actions and compliance times,” compliance with this AD requirement is not limited to the section titled “Required Action(s) and Compliance Time(s)” in the EASA AD. Service information specified in EASA AD 2016-0232R1 that is required for compliance with EASA AD 2016-0232R1 will be available on the internet at https://www.regulations.gov by searching for and locating Docket No. FAA-2021-0016 after the FAA final rule is published.

Differences Between This Proposed AD and the EASA AD

Where EASA AD 2016-0232R1 refers December 6, 2016 (the effective date of EASA AD 2016-0232), this proposed AD would require using the effective date of the final rule. EASA AD 2016-0232R1 allows an additional interval margin of 225 flight hours (FH), while this proposed AD does not. Where the service information referenced in the EASA AD requires contacting Airbus Helicopters for corrective action, this proposed AD would require accomplishing the corrective action using a method approved by the Manager, Strategic Policy Rotorcraft Section, FAA.

Costs of Compliance

The FAA estimates that this proposed AD affects 24 helicopters of U.S. Registry. Labor rates are estimated at $85 per work-hour. Based on these numbers, the FAA estimates that operators may incur the following costs in order to comply with this proposed AD.

Modifying the electrical control circuit of the MGB EMLUB system would take about 22 work-hours and parts would cost about $1,592, for an estimated cost of $3,462 per helicopter and $83,088 for the U.S. fleet.

Functional testing of the EMLUB system would take about 12 work-hours for an estimated cost of $1,020 per helicopter and $24,480 for U.S. fleet, per testing cycle.

If the electrical functional test results in a need to replace the lubrication printed circuit board, the replacement time would take 2 work-hours and the part would cost $5,150 per helicopter for an estimated cost of $5,320 per helicopter.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Airbus Helicopters: Docket No. FAA-2021-0016; Project Identifier 2019-SW-114-AD.

(a) Comments Due Date

The FAA must receive comments by April 29, 2021.

(b) Affected Airworthiness Directives (ADs)

None.

(c) Applicability

This AD applies to all Airbus Helicopters Model EC225LP helicopters, certificated in any category.

(d) Subject

Joint Aircraft System Component (JASC) Code 6397, Main Rotor Drive System Wiring.

(e) Reason

This AD was prompted by reports of oil leaks during engine starting, originating from the main gearbox (MGB). The FAA is issuing this AD to address the inadvertent opening of the P 2.4 valve of the MGB emergency lubrication (EMLUB) system, which results from MGB pressurization by compressed air produced by the engine during starting in response to a signal from the EMLUB electronic control card. This condition could result in loss of the MGB lubrication system and a reduced ability of the crew to manage adverse operating conditions.

(f) Compliance

Comply with this AD within the compliance times specified, unless already done.

(g) Requirements

Except as specified in paragraph (h) of this AD: Comply with all required actions and compliance times specified in, and in accordance with European Union Aviation Safety Agency AD No. 2016-0232R1, dated December 12, 2019 (EASA AD 2016-0232R1).

(h) Exceptions to EASA AD 2016-0232R1

(1) Where EASA AD 2016-0232R1 refers December 6, 2016 (the effective date of European Aviation Safety Agency AD No. 2016-0232, dated November 22, 2016), this AD requires using the effective date of this AD.

(2) Where EASA AD 2016-0232R1 refers to flight hours (FH), this AD requires using hours time-in-service (TIS).

(3) Where paragraph (2) of EASA AD 2016-0232R1 allows an additional interval margin of 225 FH, this AD does not. This AD requires accomplishing the functional tests within 600 hours TIS, and thereafter at intervals not to exceed 600 hours TIS.

(4) Where the service information referenced in EASA AD 2016-0232R1 requires contacting Airbus Helicopters technical support, this AD requires that the corrective action be accomplished using a method approved by the Manager, Strategic Policy Rotorcraft Section, FAA. The Manager's approval letter must specifically refer to this AD.

(5) The “Remarks” section of EASA AD 2016-0232R1 does not apply to this AD.

(i) Special Flight Permit

Special flight permits may be issued in accordance with 14 CFR 21.197 and 21.199 to operate the helicopter to a location where the helicopter can be modified (if the operator elects to do so), provided the helicopter is operated under visual flight rules and without passengers only.

(j) Alternative Methods of Compliance (AMOCs)

(1) The Manager, Strategic Policy Rotorcraft Section, FAA, has the authority to approve AMOCs for this AD, if requested using the procedures found in 14 CFR 39.19. In accordance with 14 CFR 39.19, send your request to your principal inspector or local Flight Standards District Office, as appropriate. If sending information directly to the manager of the Strategic Policy Rotorcraft Section, send it to: Hal Jensen, Aerospace Engineer, Operational Safety Branch, FAA, 470 L'Enfant Plaza SW, Washington, DC 20024; telephone 202-267-9167; email 9-ASW-FTW-AMOC-Requests@faa.gov.

(2) Before using any approved AMOC, notify your appropriate principal inspector, or lacking a principal inspector, the manager of the local flight standards district office/certificate holding district office.

(k) Related Information

(1) For EASA AD 2016-0232R1, contact the EASA, Konrad-Adenauer-Ufer 3, 50668 Cologne, Germany; telephone +49 221 8999 000; email ADs@easa.europa.eu; internet www.easa.europa.eu. You may find this EASA AD on the EASA website at https://ad.easa.europa.eu. You may view this material at the FAA, Office of the Regional Counsel, Southwest Region, 10101 Hillwood Pkwy., Room 6N-321, Fort Worth, TX 76177. For information on the availability of this material at the FAA, call 817-222-5110. This material may be found in the AD docket on the internet at https://www.regulations.gov by searching for and locating Docket No. FAA-2021-0016.

(2) For more information about this AD, contact: Hal Jensen, Aerospace Engineer, Operational Safety Branch, FAA, 470 L'Enfant Plaza SW, Washington, DC 20024; telephone 202-267-9167; email hal.jensen@faa.gov.

Issued on January 27, 2021.
Lance T. Gant,
Director, Compliance & Airworthiness Division, Aircraft Certification Service.

[FR Doc. 2021-05196 Filed 3-12-21; 8:45 am]

BILLING CODE 4910-13-P